DEPARTMENT OF LABOR

Employment and Training Administration

Announcement Regarding States Triggering “off” of Tiers Three and Four of Emergency Unemployment Compensation 2008 (EUC08)

AGENCY: Employment and Training Administration, Labor.

ACTION: Notice.

SUMMARY: Announcement regarding states triggering “off” of Tiers Three and Four of the Emergency Unemployment Compensation (EUC08) program.

Public Law 111-205 extended provisions in Public Law 111-92 which amended prior laws to create a Third and Fourth Tier of benefits within the EUC08 program for qualified unemployed workers claiming benefits in high unemployment states. The Department of Labor produces a trigger notice indicating which states qualify for EUC08 benefits within Tiers Three and Four and provides the beginning and ending dates of payable periods for each qualifying state. The trigger notice covering state eligibility for the EUC08 program can be found at: http://ows.doleta.gov/unemploy/claims_arch.asp. A new trigger notice is posted at this location each week that the program is in effect.

Based on data published September 21, 2010 by the Bureau of Labor Statistics, the following trigger changes have occurred for states in the EUC08 program:

• New Hampshire's three month average seasonally-adjusted TUR for August declined to 5.8%, below the 6.0% threshold to remain “on” Tier Three, hence the state triggered off of Tier Three. As a result, New Hampshire concluded its payable period in the third tier of the EUC program on October 16, 2010. Eligibility for claimants in New Hampshire have been reduced from a maximum potential entitlement of 47 weeks to a maximum potential entitlement of 34 weeks in the EUC program.

• Delaware's three month average seasonally-adjusted TUR for August 2010 declined to 8.4%, below the 8.5% threshold to remain “on” Tier Four hence the state has triggered off of Tier Four. As a result, Delaware concluded its payable period in the Fourth tier of the EUC program on October 16, 2010. Eligibility for claimants in Delaware has been reduced from a maximum potential entitlement of 53 weeks to a maximum potential entitlement of 47 weeks in the EUC program.

Information for Claimants

The duration of benefits payable in the EUC program, and the terms and conditions under which they are payable, are governed by Public Laws 110-252, 110-449, 111-5, 111-92, 111-118, 111-144, 111-157, and 111-205, and the operating instructions issued to the states by the U.S. Department of Labor. Persons who believe they may be entitled to additional benefits under the EUC08 program, or who wish to inquire about their rights under the program, should contact their State Workforce Agency.

FOR FURTHER INFORMATION CONTACT: Scott Gibbons, U.S. Department of Labor, Employment and Training Administration, Office of Workforce Security, 200 Constitution Avenue, NW., Frances Perkins Bldg. Room S-4231, Washington, DC 20210, telephone number (202) 693-3008 (this is not a toll-free number) or by e-mail: gibbons.scott@dol.gov.

Signed in Washington, DC, this 4th day of November 2010.
Jane Oates,
Assistant Secretary, Employment and Training Administration.

[FR Doc. 2010-28348 Filed 11-9-10; 8:45 am]

BILLING CODE 4510-FW-P